DEPARTMENT OF ENERGY

Federal Energy Regulatory Commission

[Docket No. RP04-108-000]

Tuscarora Gas Transmission Company; Notice of Tariff Filing

Take notice that on December 11, 2003, Tuscarora Gas Transmission Company (Tuscarora) tendered for filing as part of its FERC Gas Tariff, Original Volume No. 1, the following revised tariff sheets, effective as of January 17, 2004:

Third Revised Sheet No. 1

Sixth Revised Sheet No. 37C

First Revised Sheet No. 37D

First Revised Sheet No. 100

Tuscarora states that the purpose of this filing is to reflect on revised tariff sheets all of the tariff modifications previously accepted in two letter orders issued on November 18, 2003, in Docket Nos. RP00-487 and RP01-14, and in Docket No. RP04-28.

Tuscarora states that copies of the filing were mailed to all affected customers of Tuscarora and interested state commissions.

Any person desiring to be heard or to protest said filing should file a motion to intervene or a protest with the Federal Energy Regulatory Commission, 888 First Street NE., Washington, DC 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. This filing is available for review at the Commission in the Public Reference Room or may be viewed on the Commission's Web site at http://www.ferc.gov using the eLibrary. Enter the docket number excluding the last three digits in the docket number field to access the document. For assistance, please contact FERC Online Support at FERCOnlineSupport@ferc.gov or toll-free at (866) 208-3676, or TTY, contact (202) 502-8659. The Commission strongly encourages electronic filings. See, 18 CFR 385.2001(a)(1)(iii) and the instructions on the Commission's Web site under the e-Filing link.

Magalie R. Salas,
Secretary.

[FR Doc. E3-00643 Filed 12-24-03; 8:45 am]

BILLING CODE 6717-01-P